DEPARTMENT OF DEFENSE

Office of the Secretary

Senior Executive Service Performance Review Board

AGENCY: Office of the Inspector General, Department of Defense (OIG, DoD).

ACTION: Notice.

SUMMARY: This notice announces the appointment of the members of the Senior Executive Service (SES) Performance Review Board (PRB) for the OIG, DoD, as required by 5 U.S.C. 4314(c)(4). The PRB provides fair and impartial review of SES performance appraisals and makes recommendations regarding performance ratings, performance awards and recertification to the Inspector General.

EFFECTIVE DATE: July 1, 2001.

FOR FURTHER INFORMATION CONTACT: Mr. Michael Peterson, Director, Personnel and Security, Office of Administration and Information Management, OIG, DoD, 400 Army Navy Drive, Arlington, VA 22202, (703) 602-4513.

Charles W. Beardall—Deputy Assistant Inspector General for Criminal Investigative Policy and Oversight, OAIG for Investigations

Thomas J. Bonnar—Deputy Assistant Inspector General for Investigations

Patricia A. Brannin—Deputy Assistant Inspector General for Audit Policy and Oversight, OAIG—Auditing

David A. Brinkman—Director, Audit Followup and Technical Support, OAIG—Auditing

C. Frank Broome—Director, Office of Departmental Inquiries

David M. Crane—Director, Office for Intelligence Review

Thomas F. Gimble—Director, Acquisition Management, OAIG—Auditing

Paul J. Granetto—Director, Contract Management, OAIG—Auditing

Joel L. Leson—Director, Administration and Information Management

Carol L. Levy—Assistant Inspector General for Investigations

Robert J. Lieberman—Deputy Inspector General

David K. Steensma—Deputy Assistant Inspector General for Auditing

Alan W. White—Director, Investigative Operations, OAIG for Investigations

Shelton R. Young—Director, Readiness and Logistics Support, OAIG—Auditing

Robert L. Ashbaugh—Deputy Inspector General, Department of Justice

Patricia Dalton—Deputy Inspector General, Department of Labor

Joyce Fleischman—Deputy Inspector General, Department of Agriculture

Joseph R. Willever—Deputy Inspector General, Office of Personnel Management

Dated: June 21, 2001.
L.M. Bynum,
Alternate OSD Federal Register Liaison Officer, Department of Defense.

[FR Doc. 01-16032 Filed 6-26-01; 8:45 am]

BILLING CODE 5001-08-M